DEPARTMENT OF COMMERCE

Minority Business Development Agency (MBDA)

[Docket No. 980901228-1253-02]

RIN 0640-ZA04

Identification of Currently Funded Projects Eligible To Be Extended for an Additional Year of Funding in Light of MBDA's Intent To Revise The Minority Business Opportunity Committee (MBOC) Program

AGENCY: Minority Business Development Agency, Commerce.

ACTION: Notice.

SUMMARY: This notice announces the Minority Business Development Agency's (MBDA) amendment of a prior Federal Register notice published by MBDA that established the total project award period for cooperative agreements under the Minority Business Opportunity Committee (MBOC) program as three (3) years. MBDA amends the award period to provide for an additional year of funding. This extension of time will permit MBDA needed time to develop a revision of the work requirements and performance measures for the MBOC program. This notice also identifies certain MBOCs currently funded through December 31, 2001, that will be eligible for an additional year of funding beyond the three (3) years normally allowed between competitions. It is MBDA's intent to revise the scope of the program to include use of state-of-the-art information technology to collect and disseminate information for and about minority businesses and markets, and to install Performance Measures that can be electronically validated and verified.

DATES: November 13, 2001.

FOR FURTHER INFORMATION CONTACT: Mr. Stephen Boykin (202) 482-1712.

SUPPLEMENTARY INFORMATION: Under Executive Order 11625, MBDA provides business development services to persons who are members of groups determined by the U. S. Department of Commerce to be socially or economically disadvantaged, and to business concerns owned and controlled by such individuals. The MBOC program is one vehicle MBDA utilizes to accomplish this mission. The MBOC program creates conditions in the public and private sector marketplace that foster significant minority business and economic success. The MBOC is a locally based organization dedicated to the planning, coordination, creation, and delivery of resources to facilitate effective participation of the minority business sector in the community and globally. The principal functions of the MBOC are to serve as a focal point for the development of mutually beneficial approaches to insure minority business participation in the community; to identify and facilitate economic and business opportunities; to identify barriers to economic growth and to develop strategies for overcoming these barriers; to serve as community advocate for minority businesses; and to serve as a mentoring entity for ready to grow businesses.

To ensure that the program objectives stated above are carried out more effectively, MBDA shall revise the work requirements to require the use of state-of-the-art technology to verify and validate performance and to collect and disseminate information for and about minority business and markets. MBDA intends to implement the new work requirements for the MBOC Program through competition to be published in the Federal Register and on MBDA's website (www.mbda.gov) in the summer/fall of 2002. The anticipated start date for new awards is January 1, 2003. Consequently, there will be no new competition for MBOCs during 2001.

As part of the transition, MBDA intends to provide an additional year of funding, on a non-competitive basis, to current, eligible MBOCs that will be completing the third year of operation on 12/31/01. Such additional funding will be at the total discretion of MBDA, based on such factors as the MBOC's performance, the availability of funds and Agency priorities. Normally MBOCs would undergo a new competition after three years of operation. The additional year of funding, as announced in this Notice, will allow MBDA the necessary time to develop its revised program and to apply the new work requirements to all MBOCs effective 1/1/03. Therefore, MBDA's prior Federal Register notice (63 FR 47480) is hereby amended to allow for the extension of the total project award period of cooperative agreements under the MBOC program to four (4) years. The following MBOCs are affected by this notice and will be eligible for an additional year (1/1/2002 through 12/31/2002) of funding on a non-competitive basis: Puerto Rico MBOC (Economic Bank of Puerto Rico); Brooklyn/Queens MBOC (Brooklyn Economic Development Corporation); Los Angeles MBOC (City of Los Angeles); South Texas MBOC (Rio Grande Valley Empowerment Zone Corporation); Kansas City MBOC (The City of Kansas City, Missouri); Birmingham MBOC (City of Birmingham, Alabama); and Austin MBOC (Texas Association of Minority Business Enterprises).

The Department of Commerce Pre-Award Notification Requirements for Grants and Cooperative Agreements contained in the Federal Register notice of October 1, 2001 (66 FR 49917), are applicable to this notice.

Executive Order 12866

This notice was determined to be not significant for purposes of E.O. 12866.

Administrative Procedure Act

The provisions of the Administrative Procedure Act requiring notice of proposed rulemaking, the opportunity for public participation, and a delay in effective date, are inapplicable because this notice is a matter relating to public property, loans, grants, benefits, or contracts 5 U.S.C. 553(a)(2),

Regulatory Flexibility Act

Because a notice of proposed rulemaking and opportunities for public comment are not required to be given for this notice by 5 U.S.C. 553 or by any other law, the analytical requirements of the Regulatory Flexibility Act, 5 U.S.C. 601 are inapplicable.

Executive Order 13132

This notice does not contain policies with Federalism implications as that term is defined in Executive Order 13132.

Authority: 15 U.S.C. 1512 and Executive Order 11625.

Dated: November 5, 2001.
Juanita E. Berry,
Federal Register Liaison Officer, Minority Business Development Agency.
Ronald N. Langston,
National Director, Minority Business Development Agency.

[FR Doc. 01-28408 Filed 11-9-01; 8:45 am]

BILLING CODE 6050-$$-P